DEPARTMENT OF COMMERCE

National Oceanic and Atmospheric Administration

Agency Information Collection Activities; Submission to the Office of Management and Budget (OMB) for NOAA Social, Behavioral, and Economic Science Studies for Weather, Water, and Climate

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 30, 2024 during a 60-day comment period. This notice allows for an additional 30 days for public comments.

Agency: National Oceanic and Atmospheric Administration, Commerce.

Title: NOAA Social, Behavioral, and Economic Science Studies for Weather, Water, and Climate.

OMB Control Number: 0648-XXXX.

Form Number(s): None.

Type of Request: New information collection.

Number of Respondents: Approximately 6,000 per year.

Average Hours Per Response: 0.5 hours per person.

Total Annual Burden Hours: Annualized 3,000 hours overall.

Needs and Uses: This is a request for a new collection of information.

The National Oceanic and Atmospheric Administration (NOAA) products and services “support economic vitality and affect more than one-third of America's gross domestic product.” The National Weather Service (NWS) is a critical component of this service and operates under the mission to “provide weather, water and climate data, forecasts, warnings, and impact-based decision support services for the protection of life and property and enhancement of the national economy.” Leveraging and integrating Social, Behavioral, and Economic Sciences (SBES) methodologies and knowledge is crucial to meeting our mission.

If we are to effectively support public and partner decision making, build actionable tools and information, and evaluate our performance, then it's imperative that the NOAA/NWS collect key SBES data and fully engage with our audiences. Additionally, the NOAA/NWS has articulated a priority to enhance services for historically underinvested and underserved communities and improve service equity across the board. These communities typically experience higher rates of poverty, homelessness, disabilities, and language barriers, which increase their vulnerability to hazard impacts.

The generic clearance is an important planning and engagement tool for NOAA/NWS. The procedures expected to be used include but are not limited to social network analysis, open, semi-structured and structured interviews, focus groups, surveys, and participant observation.

Affected Public: Members of the public, emergency managers, broadcast meteorologists, state/local/tribal decision makers, and non-profit organizations.

Frequency: On Occasion.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Clearance Officer, Office of the Under Secretary for Economic Affairs, Commerce Department.

[FR Doc. 2024-25608 Filed 11-1-24; 8:45 am]

BILLING CODE 3510-KE-P